DEPARTMENT OF COMMERCE

International Trade Administration

[A-570-831]

Fresh Garlic From the People's Republic of China: Initiation of Antidumping Duty New Shipper Review; 2011-2012

AGENCY: Import Administration, International Trade Administration, Department of Commerce.

SUMMARY: The Department of Commerce (Department) has determined that a request for a new shipper review (NSR) under the antidumping duty order on fresh garlic from the People's Republic of China (PRC) meets the statutory and regulatory requirements for initiation. The period of review (POR) is November 1, 2011, through October 31, 2012.

DATES: Effective Date: January 2, 2012.

FOR FURTHER INFORMATION CONTACT: Lingjun Wang, AD/CVD Operations, Office 6, Import Administration, International Trade Administration, U.S. Department of Commerce, 14th Street and Constitution Avenue NW., Washington, DC 20230; telephone: (202) 482-2316.

SUPPLEMENTARY INFORMATION:

Background

The Department published the antidumping duty order on fresh garlic from the PRC in the Federal Register on November 16, 1994.¹ On November 27, 2012, the Department received a timely NSR request from Shijiazhuang Goodman Trading Co., Ltd. (Goodman) in accordance with section 751(a)(2)(B)(i) of the Tariff Act of 1930, as amended (the Act), and 19 CFR 351.214(c).

¹ See Antidumping Duty Order: Fresh Garlic From the People's Republic of China, 59 FR 59209 (November 16, 1994).

Pursuant to the requirements set forth in 19 CFR 351.214(b), Goodman certified that it is the exporter and Jinxiang Zhongtian Business Co., Ltd. (a.k.a. Jinxiang Zhongtian Trade Co., Ltd.) (Zhongtian) certified that it is the producer of the fresh garlic exported by Goodman. Moreover, Goodman and Zhongtian each certified that: (1) They did not export fresh garlic for sale to the United States during the period of investigation (POI); (2) since the investigation was initiated, they have never been affiliated with any exporter or producer who exported the subject merchandise to the United States during the POI, including those not individually examined during the investigation; and (3) their export activities are not controlled by the central government of the PRC. In addition, Goodman submitted documentation establishing the following: (1) The date on which fresh garlic was first entered; (2) the volume of that and subsequent shipments; and (3) the date of the first sale to an unaffiliated customer in the United States.

The Department queried the database of U.S. Customs and Border Protection (CBP) in an attempt to confirm that shipments reported by Goodman had entered the United States for consumption and that liquidation had been properly suspended for antidumping duties. The information which the Department examined was consistent with that provided by Goodman in its request.²

² See Memorandum to The File regarding “Initiation of Antidumping Duty New Shipper Review of Fresh Garlic from the People's Republic of China: Shijiazhuang Goodman Trading Co., Ltd.” dated concurrently with this notice.

Period of Review

In accordance with 19 CFR 351.214(g)(1)(i)(A), the POR for an NSR initiated in the month immediately following the anniversary month will be the twelve-month period immediately preceding the anniversary month. Therefore, the POR for this NSR is November 1, 2011, through October 31, 2012. The sales and entries into the United States of subject merchandise exported by Goodman and produced by Zhongtian occurred during this twelve-month POR.

Initiation of New Shipper Review

Pursuant to section 751(a)(2)(B) of the Act and 19 CFR 351.214(b), and the information on the record, the Department finds that Goodman's request meets the threshold requirements for initiation of an NSR. The Department intends to issue the preliminary result within 180 days after the date on which the review is initiated, and the final results within 90 days after the date on which we issue the preliminary results.³

³ See section 751(a)(2)(B)(iv) of the Act.

It is the Department's usual practice, in cases involving non-market economies, to require that a company seeking to establish eligibility for an antidumping duty rate separate from the country-wide rate (i.e., a separate rate) provide evidence of de jure and de facto absence of government control over the company's export activities. Accordingly, the Department will issue a questionnaire to Goodman that includes a separate rate section. The review will proceed if the response provides sufficient indication that the exporter and producer are not subject to either de jure or de facto government control with respect to their export of fresh garlic.

The Department will instruct CBP to allow, at the option of the importer, the posting, until the completion of the review, of a bond or security in lieu of a cash deposit for certain entries of the subject merchandise from Goodman in accordance with section 751(a)(2)(B)(iii) of the Act and 19 CFR 351.214(e). Specifically, the bonding privilege will only apply to entries of subject merchandise exported by Goodman and produced by Zhongtian, the sales of which are the basis for this NSR request.

Interested parties requiring access to proprietary information in this NSR should submit applications for disclosure under administrative protective order in accordance with 19 CFR 351.305 and 351.306.

This initiation and notice are in accordance with section 751(a)(2)(B) of the Act and 19 CFR 351.214 and 351.221(c)(1)(i).

Dated: December 21, 2012.
Christian Marsh,
Deputy Assistant Secretary for Antidumping and Countervailing Duty Operations.

[FR Doc. 2012-31447 Filed 12-31-12; 8:45 am]

BILLING CODE 3510-DS-P